DEPARTMENT OF THE INTERIOR

Fish and Wildlife Service

[FWS-R9-MB-2008-N00169] [91200-1231-9BPP-L2]

Information Collection Sent to the Office of Management and Budget (OMB) for Approval; OMB Control Number 1018-0103; Conservation Order for Control of Midcontinent Light Geese

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on June 30, 2008. We may not conduct or sponsor and a person is not required to respond to a collection of information unless it displays a currently valid OMB control number. However, under OMB regulations, we may continue to conduct or sponsor this information collection while it is pending at OMB.

DATES: You must submit comments on or before July 28, 2008.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey by mail, fax, or e-mail (see ADDRESSES) or by telephone at (703) 358-2482.

SUPPLEMENTARY INFORMATION:

OMB Control Number: 1018-0103.

Title: Conservation Order for Control of Midcontinent Light Geese, 50 CFR 21.60.

Service Form Number(s): None.

Type of Request: Extension of currently approved collection.

Affected Public: State and tribal governments.

Respondent's Obligation: Required to obtain or retain a benefit.

Frequency of Collection: Annually.

Number of Respondents: 24.

Number of Annual Responses: 24.

Completion Time per Response: 74 hours.

Total Annual Burden Hours: 1,776 hours.

Abstract: The number of light geese (lesser snow, greater snow, and Ross' geese) in the midcontinent region has nearly quadrupled during the past several decades due to a decline in adult mortality and an increase in winter survival. We refer to these species and subspecies as light geese because of their light coloration as opposed to dark geese such as white-fronted or Canada geese. Because of their feeding activity, light geese have become seriously injurious to their habitat as well as to habitat important to other migratory birds. This poses a serious threat to the short- and long-term health and status of some migratory bird populations. We believe that the number of light geese in the midcontinent region has exceeded long-term sustainable levels for their arctic and subarctic breeding habitats and that the populations must be reduced. 50 CFR 21 provides authority for the management of overabundant, midcontinent light geese.

On February 16, 1999, we published a final rule (64 FR 7517) that established a conservation order for midcontinent light geese (50 CFR 21.60). This regulation authorizes States and tribes in the midcontinent region to control midcontinent light geese within the United States through the use of alternative regulatory strategies. The conservation order authorizes States/tribes to implement population control measures without having to obtain a permit, thus significantly reducing their administrative burden. The conservation order is a streamlined process that affords an efficient and effective population reduction strategy, rather than addressing the issue through our permitting process. Furthermore, this strategy precludes the use of more drastic and costly direct population-reduction measures such as trapping and culling geese.

States/tribes that participate in the conservation order must inform and brief all participants on the requirements in 50 CFR 21.60 and conservation order conditions that apply to the implementation of light geese control measures. Participating States/tribes must collect information on the number of birds taken during control efforts, the methods by which they were taken, and the date on which they were taken. We use this information to administer the conservation order and, particularly, to monitor the effectiveness of control strategies and to protect migratory birds. Each participating State/tribe must submit an annual report summarizing the activities it conducted.

Comments: On April 25, 2008, we published in the Federal Register (73 FR 22429) a notice of our intent to request that OMB renew authority for this information collection. In that notice, we solicited public comments for 60 days, ending on June 24, 2008. We received one comment during this period. The commenter objected to the killing of geese and did not address the information collection requirements. We did not make any changes to our information collection as a result of this comment.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Hope Grey,
Information Collection Clearance Officer, Fish and Wildlife Service.

FR Doc. E8-14583 Filed 6-26-08; 8:45am

BILLING CODE 4310-55-S